DEPARTMENT OF HEALTH AND HUMAN SERVICES

Centers for Disease Control and Prevention

[30Day-23-22EN]

Agency Forms Undergoing Paperwork Reduction Act Review

In accordance with the Paperwork Reduction Act of 1995, the Centers for Disease Control and Prevention (CDC) has submitted the information collection request titled “Synopses of State Dental Public Health Programs” to the Office of Management and Budget (OMB) for review and approval. CDC previously published a “Proposed Data Collection Submitted for Public Comment and Recommendations” notice on May 6, 2022 to obtain comments from the public and affected agencies. CDC received one comment. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agency's estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Synopses of State Dental Public Health Programs—Existing Collection in use without an OMB Control Number—National Center for Chronic Disease Prevention and Health Promotion (NCCDPHP), Centers for Disease Control and Prevention (CDC).

Background and Brief Description

This request is to collect information about human resources, programs, and infrastructure in oral health departments within a state health department for all 50 states and Washington, DC. Oral health affects our ability to eat, speak, smile, and show emotions. Oral health also affects a person's self-esteem, school performance, and attendance at work or school. Oral diseases—which range from cavities and gum disease to oral cancer—cause pain and disability for millions of Americans and cost taxpayers billions of dollars each year. CDC supports states in their efforts to reduce oral disease and improve oral health by using effective interventions. CDC provides state and territorial health departments with funding, guidance, and technical assistance to monitor oral disease across populations and to implement and evaluate oral health interventions.

The Association of State and Territorial Dental Directors (ASTDD) is a national non-profit organization representing the directors and staff of state public health agency programs for oral health. It was organized in 1948 and is one of 20 affiliates of the Association of State and Territorial Health Officials (ASTHO). ASTDD formulates and promotes the establishment of national dental public health policy. In addition, ASTDD; assists state dental programs in the development and implementation of programs and policies for the prevention of oral diseases; builds awareness and strengthens dental public health professionals' knowledge and skills by developing position papers and policy statements; provides information on oral health to health officials and policy makers; and conducts conferences for the dental public health community. The word ”state” is used to indicate U.S. states, the District of Columbia, U.S. territories, and other U.S.-associated jurisdictions, except where explicitly noted otherwise.

In 1994, ASTDD originated the annual Synopses of Dental Programs to share information among dental directors and partners. The Synopses of State Oral Health Programs (hereby referred to as State Synopses) described program activities and successes and the challenges that programs faced during the previous year. In 1997, ASTDD changed the format to a more structured questionnaire. Since 1998, ASTDD has been supported to collect data through cooperative agreements with CDC. This collection is necessary because no other agency or entity produces similar analyses or reports, and the Synopsis questionnaire is the only national data collection source tracking states' efforts to improve oral health and contributions to progress toward the national targets for Healthy People objectives for oral health.

OMB approval is requested for three years. CDC requests approval for an estimated 299 annual burden hours. Participation is voluntary and there are no costs to respondents other than their time.

Estimated Annualized Burden Hours
Type of respondents | Form name | Number of respondents | Number of responses per respondent | Average burden per response (in hours)
State Oral Health Director or designated program contact | Synopses of State Dental Public Health Programs | 51 | 1 | 352/60

Jeffrey M. Zirger,
Lead, Information Collection Review Office, Office of Scientific Integrity, Office of Science, Centers for Disease Control and Prevention.

[FR Doc. 2022-22503 Filed 10-14-22; 8:45 am]

BILLING CODE 4163-18-P